ENVIRONMENTAL PROTECTION AGENCY

[EPA-HQ-OPP-2005-0293; FRL-8354-9]

Cypermethrin; Response to Comments and Amendment to Reregistration Eligibility Decision; Notice of Availability

AGENCY: Environmental Protection Agency (EPA).

ACTION: Notice.

SUMMARY: This notice announces EPA's intention to modify certain risk mitigation measures that were imposed as a result of the 2006 Reregistration Eligibility Decision (RED) for the pesticide cypermethrin. EPA conducted this reassessment of the cypermethrin RED in response to public comments directed towards product labeling, risk mitigation, and the upcoming registration review process for pyrethroids, pyrethrins, and synergist chemicals. In response to the commenters and continuing efforts to mitigate risk, the Agency has made several modifications to the cypermethrin RED label requirements for pre-construction termiticide applications, spray drift language for agricultural products, and ventilation for total release foggers.

FOR FURTHER INFORMATION CONTACT: Dana Friedman, Special Review and Reregistration Division (7508P), Office of Pesticide Programs, Environmental Protection Agency, 1200 Pennsylvania Ave., NW., Washington, DC 20460-0001; telephone number: (703) 347-8827; fax number: (703) 308-7070; e-mail address: friedman.dana@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Access this Document and Other Related Information?

1. Docket. EPA has established a docket for this action under docket identification (ID) number EPA-HQ-OPP-2005-0293. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. Background

What Action is the Agency Taking?

Under section 4 of the Federal Insecticide, Fungicide, and Rodenticide Act (FIFRA), EPA is reevaluating existing pesticides to ensure that they meet current scientific and regulatory standards. In 2006, EPA issued a RED for cypermethrin under section 4(g)(2)(A) of FIFRA and the Agency received substantive comments. The Agency's response to these comments is available for viewing in the public docket. The amended cypermethrin RED reflects changes resulting from these comments as well as subsequent efforts by the Agency to mitigate overall risk.

III. What Does this Amendment Do?

The amended cypermethrin RED reflects revisions resulting from Agency consideration of public comments to the RED and efforts to develop standardized label language for certain applications. The label table incorporated into the cypermethrin RED amendment includes modifications which provide mandatory label language for pre-construction termiticide applications, spray drift language for agricultural products, and ventilation requirements for total release foggers.

List of Subjects

Environmental protection, Pesticides and pests.

Dated: March 6, 2008.
Peter Caulkins,
Acting Director, Special Review and Reregistration Division, Office of Pesticide Programs.

[FR Doc. E8-5292 Filed 3-18-08; 8:45 am]

BILLING CODE 6560-50-S